DEPARTMENT OF DEFENSE

Department of the Navy

[Docket ID USN-2010-0046]

Privacy Act of 1974; System of Records

AGENCY: U.S. Marine Corps, DoD.

ACTION: Notice to Add a System of Records.

SUMMARY: The U.S. Marine Corps proposes to add a system of records to its inventory of record systems to the Privacy Act of 1974, (5 U.S.C. 552a), as amended.

DATES: This proposed action will be effective without further notice on January 24, 2011 unless comments are received which result in a contrary determination.

ADDRESSES: You may submit comments, identified by docket number and/Regulatory Information Number (RIN) and title, by any of the following methods:

• Federal Rulemaking Portal: http://www.regulations.gov Follow the instructions for submitting comments.

• Mail: Federal Docket Management System Office, Room 3C843, 1160 Defense Pentagon, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Headquarters, U.S. Marine Corps, FOIA/PA Section (ARSF), 2 Navy Annex, Room 3134, Washington, DC 20380-1775, or Ms. Tracy Ross at (703) 614-4008.

SUPPLEMENTARY INFORMATION: The U.S. Marine Corps system of records notices subject to the Privacy Act of 1974, (5 U.S.C. 552a), as amended, have been published in the Federal Register and are available from the FOR FURTHER INFORMATION CONTACT address above.

The proposed system report, as required by 5 U.S.C. 552a (r), of the Privacy Act of 1974, as amended, was submitted on September 13, 2010, to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 16, 2010.
Morgan F. Park,
Alternate OSD Federal Register Liaison Officer, Department of Defense.

M11320-1

System name:

Emergency Incident Reporting System.

System location:

Primary Location: Reporting Systems, Inc., 851 Coho Way, Suite 301, Bellingham, WA 98225-2021.

Secondary Location:

United States Marine Corps (USMC) Installation Fire and Emergency Services (F&ES) Departments. Official mailing addresses are contained in the Standard Navy Distribution List (SNDL).

Categories of individuals covered by the system:

Federal employees, Active Duty Marines, Reserve and retired Marines involved in responding to U.S. Marine Corps F&ES emergency incidents.

Categories of records in the system:

Individual's name, Social Security Number (SSN), date of birth, home address, marital status, gender, ethnic group, home and work phone numbers, employment history, awards, years of service, administrative data consisting of; rank/grade, citizenship, emergency contact information (includes dependent information), military/Federal employees and off-duty education. Training information includes fire and emergency service certifications and qualifications, fire and emergency service skills and schools.

Authority for maintenance of the system:

10 U.S.C. 5013, Secretary of Navy; 10 U.S.C. 5041, Headquarters, Marine Corps; DoDI 6055.06, DoD Fire and Emergency Services (F&ES) Program; Marine Corps Order 11000.11B, Marine Corps Fire Protection and Emergency Services Program; and E.O. 9397 (SSN), as amended.

Purpose(s):

The Emergency Incident Reporting System provides records management and reporting for the Fire and Emergency Services (F&ES) program. The system collects and reports on all types of emergency incidents responded to by U.S. Marine Corps F&ES resources. It has the capability to collect, analyze and report prevention and inspection data as well as equipment inventories. The system also collects personnel training, certifications required for employment, and administrative data. Provides required reporting capabilities to plan, program, budget for, and execute the U.S. Corps Fire and Emergency Services (F&ES) program.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

To emergency care and definitive care medical professionals as allowed by law during the course of providing medical treatment.

To Officials and employees of federal, state and local government through official request for information with respect to law enforcement, investigatory procedures, criminal prosecution, civil court action and regulatory order.

To the United States Fire Administration National Fire Incident Reporting System (NFIRS) as required by DODI 6055.06, DoD Fire and Emergency Services (F&ES) Program for the collection and reporting of incident response information.

To disaster related agencies and services such as the American Red Cross and the Federal Emergency Management Agency (FEMA) as required in the provision of emergency related services.

To the Occupational Safety and Health Administration (OSHA) during the course of an on-site inspection.

The DoD “Blanket Routine Uses” set forth at the beginning of the Marine Corps' compilation of systems of records notices apply to this system.

Policies and practices for storing, retrieving, accessing, retaining, and disposing of records in the system:

Storage:

Electronic storage media and paper records in file folders.

Retrievability:

By name, Social Security Number (SSN), and/or date of birth.

Safeguards:

System login is accomplished by DoD Common Access Card (CAC). Public Key Infrastructure (PKI) network login is required and allows for documents to be digitally signed and encrypted. All U.S. unauthorized persons may enter and leave buildings only with an authorized escort. Records are maintained in areas accessible only to authorized personnel with a specific and recorded need-to-know.

Retention and disposal:

Records generated by the system are considered permanent records and will retire to Washington National Records Center (WNRC) when 4 years old and transfer to National Archives and Records Administration (NARA) when 20 years old.

System manager(s) and address:

Policy Official, Program Manager, Fire and Emergency Service Program (LFF-1) Headquarters, U.S. Marine Corps, 2 Navy Annex, Washington, DC 20380-1775.

Fire Chiefs of the local U.S. Marine Corps F&ES Installations. Official mailing addresses are contained in the Standard Navy Distribution List (SNDL).

Notification procedures:

Individuals seeking to determine whether information about themselves is contained in this system of records should address written inquiries to the Installation Fire Chief. Official mailing addresses are contained in the Standard Navy Distribution List (SNDL).

Request must include name, Social Security Number (SSN) and date of birth, the request must also be signed and contain a complete mailing address.

Record access procedures:

Individuals seeking to access records about themselves contained in this system of records should address written inquiries to the Installation Fire Chief. Official mailing addresses are published in the Standard Navy Distribution List (SNDL).

Request must include name, Social Security Number (SSN) and date of birth, the request must also be signed and contain a complete mailing address.

Contesting record procedures:

The U.S. Marine Corps rules for contesting contents and appealing initial agency determinations are published in Secretary of the Navy Instruction 5211.5E; 32 CFR part 701; or may be obtained from the system manager.

Record source categories:

From individuals; supervisors; personnel files; federal, state and local agencies; educational institutions; and automated system interfaces.

Exemptions claimed for the system:

None.

[FR Doc. 2010-32401 Filed 12-23-10; 8:45 am]

BILLING CODE 5001-06-P